DEPARTMENT OF LABOR

Occupational Safety and Health Administration

29 CFR Part 1915

RIN 1218-AB51

Fire Protection in Shipyard Employment; Approval of Information Collection Requirements

AGENCY: Occupational Safety and Health Administration (OSHA), Department of Labor.

ACTION: Final rule; announcement of the Office of Management and Budget (OMB) approval of information collection requirements.

SUMMARY: OSHA is announcing that the collections of information contained in the Fire Protection in Shipyard Employment Standard (29 CFR part 1915, subpart P) have been approved by OMB under the Paperwork Reduction Act of 1995. The OMB approval number is 1218-0248.

DATES: Effective March 21, 2005.

FOR FURTHER INFORMATION CONTACT: Todd Owen, OSHA, Directorate of Standards and Guidance, Room N3609, U.S. Department of Labor, 200 Constitution Avenue, NW., Washington, DC 20210; telephone (202) 693-2222.

SUPPLEMENTARY INFORMATION: OSHA published a final rule for Fire Protection in Shipyard Employment on September 15, 2004, at 69 FR 55668 to provide increased protection for shipyard employment workers from the hazards of fire on vessels and vessel sections and at related land-side facilities. The final rule became effective on December 14, 2004. As required by the Paperwork Reduction Act of 1995, the Federal Register notice for the final rule stated that compliance with the collection of information requirements was not required until those collections of information had been approved by OMB and until the Department of Labor published a notice in the Federal Register announcing the OMB control number assigned by OMB. Under 5 CFR 1320.5(b), an agency may not conduct or sponsor a collection of information unless: (1) The collection of information displays a currently valid OMB control number; and (2) the agency informs the potential persons who are to respond to the collection of information that such persons are not required to respond to the collection of information unless it displays a currently valid OMB control number.

On September 19, 2004, the Agency submitted the Fire Protection in Shipyard Employment (29 CFR part 1915, subpart P) information collection request to OMB for approval in accordance with the Paperwork Reduction Act of 1995 (44 U.S.C. 3501-3520). On November 30, 2004, OMB approved the collections of information and assigned OMB Control Number 1218-0248. The approval for the collection expires on November 30, 2007. The approved collections of information are:

1915.501—General Provisions

Paragraph (d)(1) Multi-employer worksites, Host employer responsibilities.

Paragraph (d)(2) Multi-employer worksites, Contract employer responsibilities.

1915.502—Fire Safety Plan

Paragraph (a) Employer responsibilities (to create a fire safety plan).

Paragraph (b) Plan elements.

Paragraph (c) Reviewing the plan with employees.

Paragraph (d) Additional employer requirements.

1915.504—Fire Watches

Paragraph (a) Written fire watch policy.

1915.505—Fire Response

Paragraph (a) Employer responsibilities (written fire response policy).

Paragraph (b) Required written policy information.

Paragraph (d) Organization of internal fire response functions.

1915.506—Hazards of Fixed Extinguishing Systems on Board Vessels and Vessel Sections

Paragraph (b) Requirements for automatic and manual systems.

1915.507—Land-Side Fire Protection Systems

Paragraph (c) General requirements for fixed extinguishing systems.

1915.508—Training

Paragraph (a) Training Frequency.

Paragraph (b) Training for all employees.

Paragraph (c) Additional training requirements for employees expected to fight incipient stage fires.

Paragraph (d) Additional training requirements for employees designated to perform fire response activities.

Paragraph (e) Additional training requirements for employees assigned to fire watch duty.

Paragraph (f) Records.

List of Subjects in 29 CFR Part 1915

Reporting and recordkeeping requirements.

Authority and Signature

Jonathan L. Snare, Acting Assistant Secretary of Labor for Occupational Safety and Health, directed the preparation of this document. The authority for this document is the Paperwork Reduction Act of 1995 (44 U.S.C. 3506), Secretary of Labor's Order No. 5-2002 (67 FR 65008).

Signed in Washington, DC on March 15, 2005.
Jonathan L. Snare,
Acting Assistant Secretary of Labor.

Accordingly, the Occupational Safety and Health Administration amends 29 CFR part 1915, as set forth below.

PART 1915—[AMENDED]

1. The authority citation for part 1915 continues to read in part as follows:

Authority: § 41, Longshore and Harbor Workers' Compensation Act (33 U.S.C. 941); Secs. 4, 6, 8, Occupational Safety and Health Act of 1970 (29 U.S.C. 653, 655, 657); Secretary of Labor's Order No. 12-71 (36 FR 8754), 8-76 (41 FR 25059), 9-83 (48 FR 35736), 1-90 (55 FR 9033), 6-96 (62 FR 111), 3-2000 (65 FR 50017), or 5-2002 (67 FR 65008) as applicable.

* * * * *

2. In § 1915.8, the table is amended by adding the entries for the following sections, in numerical order, to read as follows:

§ 1915.8 OMB Control numbers under the Paperwork Reduction Act

* * * * *

1915.501(d) | 1218-0248
1915.502(a) | 1218-0248
1915.502(b) | 1218-0248
1915.502(c) | 1218-0248
1915.502(d) | 1218-0248
1915.504(a) | 1218-0248
1915.505(a) | 1218-0248
1915.505(b) | 1218-0248
1915.505(d) | 1218-0248
1915.506(b) | 1218-0248
1915.507(c) | 1218-0248
1915.508(a) | 1218-0248
1915.508(b) | 1218-0248
1915.508(c) | 1218-0248
1915.508(d) | 1218-0248
1915.508(e) | 1218-0248
1915.508(f) | 1218-0248

* * * * *

[FR Doc. 05-5500 Filed 3-18-05; 8:45 am]

BILLING CODE 4510-26-M